FEDERAL ELECTION COMMISSION

Sunshine Act Notice

DATE AND TIME: Thursday, April 18, 2002 at 10 a.m.

PLACE: 999 E Street, NW., Washington, D.C. (ninth floor)

STATUS: This meeting will be open to the public.

The following item has been added to the agenda:

Report of the Audit Division on Bill Bradley for President, Inc.

PERSON TO CONTACT FOR INFORMATION: Ron Harris, Press Officer, Telephone (202) 694-1220.

Mary W. Dove,
Secretary of the Commission.

[FR Doc. 02-9371 Filed 4-12-02; 3:18 pm]

BILLING CODE 6715-01-M